DEPARTMENT OF THE INTERIOR

National Park Service

[NPS-WASO-NAGPRA-NPS0023877; PPWOCRADN0-PCU00RP14.R50000]

Notice of Intent to Repatriate Cultural Items: Brooklyn Museum, Brooklyn, NY

AGENCY: National Park Service, Interior.

ACTION: Notice.

SUMMARY: The Brooklyn Museum, in consultation with the appropriate Indian Tribe, has determined that the cultural item listed in this notice meets the definition of sacred object and object of cultural patrimony. Lineal descendants or representatives of any Indian Tribe not identified in this notice that wish to claim this cultural item should submit a written request to the Brooklyn Museum. If no additional claimants come forward, transfer of control of the cultural item to the Indian Tribe stated in this notice may proceed.

DATES: Lineal descendants or representatives of any Indian Tribe not identified in this notice that wish to claim this cultural item should submit a written request with information in support of the claim to the Brooklyn Museum at the address in this notice by September 27, 2017.

ADDRESSES: Nancy Rosoff, Andrew W. Mellon Senior Curator, Arts of the Americas, Brooklyn Museum, 200 Eastern Parkway, Brooklyn, NY 11238, telephone (718) 501-6283, nancy.rosoff@brooklynmuseum.org.

SUPPLEMENTARY INFORMATION: Notice is here given in accordance with the Native American Graves Protection and Repatriation Act (NAGPRA), 25 U.S.C. 3005, of the intent to repatriate a cultural item under the control of the Brooklyn Museum, Brooklyn, NY, that meets the definition of sacred object and object of cultural patrimony under 25 U.S.C. 3001.

This notice is published as part of the National Park Service's administrative responsibilities under NAGPRA, 25 U.S.C. 3003(d)(3). The determinations in this notice are the sole responsibility of the museum that has control of the Native American cultural item. The National Park Service is not responsible for the determinations in this notice.

History and Description of the Cultural Item

On August 7, 1905, Stewart Culin, the Brooklyn Museum's Curator of Ethnology (1903-1929) purchased a woman's dance skirt from Brouse Brizard in Arcata, Humboldt County, CA. Culin purchased the skirt at Brizard's home, not in his Arcata store. Following Culin's purchase of the skirt, it was brought to the Brooklyn Museum where it was accessioned as Hupa and given the accession number 06.331.7923. This woman's dance skirt has been identified as Wiyot and as a sacred object and object of cultural patrimony.

Museum records and information provided during consultation with Wiyot representatives indicate that the skirt is culturally affiliated with the Wiyot Tribe of northwestern California. The skirt is identified as Wiyot based upon its physical appearance and construction. It is made of deer hide and adorned with abalone shell, clam shell, copper, bear grass, maidenhair fern, iris fibers, and glass beads. While most abalone shell is a dull grey or white on the outside, the cut shell pieces on the Brooklyn Museum skirt are red, which means that they are from red abalone, an identification that relates to the Wiyot story of Abalone Woman, whose drops of blood created the red-shelled abalone. The story explains why red abalone is only found along the shores of Wiyot territory, and therefore is used in the making of Wiyot regalia.

Tribal representatives also identified the skirt as a ceremonial garment worn by Wiyot women during the Brush Dance, which is held during the annual World Renewal Ceremony in winter or early spring. As such, it is considered sacred, and an inalienable ceremonial object, which was obtained without the consent of an appropriate Wiyot authority. The Wiyot maintain that Brouse Brizard was not the rightful owner of the garment because Wiyot law prohibits the sale of ceremonial items.

The circumstances in which sacred and ceremonial objects were separated from the Wiyot people can be explained by their history. In 1860, Wiyot life in their traditional homeland was violently interrupted by the nighttime massacre of as many as 250 women, children and elders, probably by gold prospectors. The massacre resulted in survivors fleeing Wiyot territory and ultimately seeking protection among their Hupa and Yurok neighbors. During a lengthy period when the Wiyot were refugees, ceremonial life was curtailed. In 1981, the Wiyot Tribe received federal recognition and, in 1991, they were moved to the Table Bluff Reservation. Slowly they have been buying back lands that were originally part of their traditional territory. Today the Wiyot Tribe has approximately 650 enrolled members. It has a language revitalization program, and an active repatriation program to bring cultural heritage objects back home. In 2014, after the industrial contamination of their sacred site on Indian Island was cleaned up, the Wiyot held their first World Renewal Ceremonial in over 150 years.

Determinations Made by the Brooklyn Museum

Officials of the Brooklyn Museum have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Wiyot Tribe, California (previously listed as the Table Bluff Reservation—Wiyot Tribe).

Additional Requestors and Disposition

Lineal descendants or representatives of any Indian Tribe not identified in this notice that wish to claim this cultural item should submit a written request with information in support of the claim to Nancy Rosoff, Andrew W. Mellon Senior Curator, Arts of the Americas, Brooklyn Museum, 200 Eastern Parkway, Brooklyn, NY 11238, telephone (718) 501-6283, nancy.rosoff@brooklynmuseum.org, by September 27, 2017. After that date, if no additional claimants have come forward, transfer of control of the sacred object and object of cultural patrimony to the Wiyot Tribe, California (previously listed as the Table Bluff Reservation—Wiyot Tribe) may proceed.

The Brooklyn Museum is responsible for notifying the Wiyot Tribe, California (previously listed as the Table Bluff Reservation—Wiyot Tribe) that this notice has been published.

Dated: July 26, 2017.
Melanie O'Brien,
Manager, National NAGPRA Program.

[FR Doc. 2017-18188 Filed 8-25-17; 8:45 am]

BILLING CODE 4312-52-P